DEPARTMENT OF LABOR

Employment and Training Administration

[TA-W-55,357]

Sanmina-Sci Corporation, Printed Ciruit Board Division, Wilmington, MA; Notice of Revised Determination of Alternative Trade Adjustment Assistance on Reconsideration

By letter dated September 14, 2004, a duly authorized representative of the Commonwealth of Massachusetts requested administrative reconsideration regarding Alternative Trade Adjustment Assistance (ATAA) for workers of the subject firm. The Trade Adjustment Assistance (TAA) certification for workers of Sanmina-SCI Corporation, Printed Circuit Board Division, Wilmington, Massachusetts was signed on August 13, 2004. The Department's notice will soon be published in the Federal Register.

The initial investigation determined that while at least five percent of the workforce at the subject firm is at least fifty years of age, workers of the subject worker group possess skills that are easily transferable.

Additional investigation has determined that the workers do not possess skills that are easily transferable to comparable positions within the local commuting area and that competitive conditions within the industry are adverse.

Conclusion

After careful review of the additional facts obtained on reconsideration, I conclude that the requirements of Section 246 of the Trade Act of 1974, as amended, have been met for workers at the subject firm.

In accordance with the provisions of the Act, I make the following certification:

“All workers of at Sanmina-SCI Corporation, Printed Circuit Board Division, Wilmington, Massachusetts, who became totally or partially separated from employment on or after July 30, 2003 through August 13, 2006, are eligible to apply for adjustment assistance under Section 223 of the Trade Act of 1974, and are also eligible to apply for alternative trade adjustment assistance under Section 246 of the Trade Act of 1974.”

Signed in Washington, DC this 22nd day of September 2004.
Elliott S. Kushner,
Certifying Officer, Division of Trade Adjustment Assistance.

[FR Doc. 04-22798 Filed 10-8-04; 8:45 am]

BILLING CODE 4510-30-P